NATIONAL AERONAUTICS AND SPACE ADMINISTRATION

[Notice: 18-083]

NASA Advisory Council; Aeronautics Committee Meeting; Amended WebEx Information

AGENCY: National Aeronautics and Space Administration.

ACTION: Notice of amended WebEx information for Aeronautics Committee meeting of NASA Advisory Council. REF: Federal Register/Vol. 83, No. 203/Friday, October 19, 2018/Notices. Page 53113.

SUMMARY: In accordance with the Federal Advisory Committee Act, as amended, the National Aeronautics and Space Administration (NASA) announces amended WebEx information for the upcoming meeting of the Aeronautics Committee of the NASA Advisory Council (NAC). As noted in previous Federal Register notice, same subject (see REF), this meeting will be held for soliciting, from the aeronautics community and other persons, research and technical information relevant to program planning.

DATES: Thursday, November 15, 2018, 10:30 a.m.-5:30 p.m., Eastern Time.

ADDRESSES: NASA Langley Research Center, 2 Langley Boulevard, Building 2101, Room 305, Hampton, VA 23681.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: The meeting will be open to the public up to the capacity of the room. This meeting is also available telephonically and by WebEx. You must use a touch-tone telephone to participate in this meeting. Any interested person may dial the USA toll-free conference number 1-888-769-8716, participant passcode: 681359, followed by the # sign to participate in this meeting by telephone. The amended WebEx link is https://nasaenterprise.webex.com/, the meeting number is 901 412 850, and the password is 8vMRARb@. The agenda for the meeting includes the following topics:

—Subsonic Technology Development Strategy

—Vertical Lift Noise

—Autonomy Update

For NASA Langley Research Center visitor access, please go through the Main Gate and show a valid government-issued identification (i.e., driver's license, passport, etc.) to the security guard. Inform the security guard that you are attending a meeting in Building 2101. Foreign nationals attending this meeting will be required to provide a copy of their passport and visa in addition to providing the following information no less than 15 days prior to the meeting: Full name; gender; date/place of birth; citizenship; passport information (number, country, telephone); visa information (number, type, expiration date); employer/affiliation information (name of institution, address, country, telephone); title/position of attendee. To expedite admittance, U.S. citizens and Permanent Residents (green card holders) are requested to provide full name and citizenship status no less than 5 working days in advance. Information should be sent to Ms. Irma Rodriguez by fax at (202) 358-4060. If any questions, please call Ms. Irma Rodriguez at (202) 358-0984. Attendees will also be required to sign a register prior to entering the meeting room. It is imperative that the meeting be held on these dates to accommodate the scheduling priorities of the key participants.

Patricia Rausch,
Advisory Committee Management Officer, National Aeronautics and Space Administration.

[FR Doc. 2018-23491 Filed 10-26-18; 8:45 am]

BILLING CODE P